DEPARTMENT OF JUSTICE

Antitrust Division

Notice Pursuant to the National Cooperative Research and Production Act of 1993—Secure Digital Music Initiative (“SDMI”)

Notice is hereby given that, on October 4, 1999, pursuant to section 6(a) of the National Cooperative Research and Production Act of 1993, 15 U.S.C. 4301 et seq. (“the Act”), Secure Digital Music Initiative (“SDMI”) has filed written notifications simultaneously with the Attorney General and the Federal Trade Commission disclosing changes in its membership status. The notifications were filed for the purpose of extending the Act's provisions limiting the recovery of antitrust plaintiffs to actual damages under specified circumstances. Specifically, Bose Corporation, Framingham, MA; Canadian Audiotrak, Toronto, Canada; Casio, Tokyo, Japan; Cinram International, Inc., Scarborough, Ontario, Canada; Digital River Inc., Eden Prairie, MN; Gemplus Corporation, Montgomeryville, PA; General Instrument, Horsham, PA; Intervu, Inc., San Diego, CA; Lexar Media, Inc., Fremont, CA; Media Fair, Inc., Monterey Park, CA; Micronas Semiconductors, Inc., San Jose, CA; Nokia UK Limited, London, England; Packard Bell NEC, Inc., Sacramento, CA; Philips, Briarcliff Manor, NY; Plug 'n Play Technologies, Inc., Hauppauge, NY; Portal Player, Inc., Saratoga, CA; Pricewaterhouse Coopers, Tampa, FL; Qdesign, Vancouver, B.C., Canada; Saehan Information Systems Co., LTD, Seoul, South Korea; Softlock Services, Rochester, NY; Sonic Foundry, Inc., Madison, WI; SpectraNet Communications, Inc.—ThrottleBox, Johnson City, NY; Sun Microsystems, Palo Alto, CA; Telian Corporation, Kyonggi, South Korea; WavePhore, Phoenix, AZ; and Xerox Corp., Rochester, NY have been added as parties to this venture. Also Emusic.com, Inc., Redwood City, CA has change its name to GoodNoise Corporation.

No other changes have been made in either the membership or planned activity of the group research project. Membership in this group research project remains open, and Secure Digital Music Initiative (“SDMI”) intends to file additional written notification disclosing all changes in membership.

On June 28, 1999, Secure Digital Music Initiative (“SDMI”) filed its original notification pursuant to section 6(a) of the Act. A notice has not yet been published in the Federal Register.

Constance K. Robinson,
Director of Operations, Antitrust Division.

[FR Doc. 00-12044 Filed 5-11-00; 8:45 am]

BILLING CODE 4410-11-M